DEPARTMENT OF HEALTH AND HUMAN SERVICES

Food and Drug Administration

[Docket No. FDA-2013-D-0077]

Early Alzheimer's Disease: Developing Drugs for Treatment; Draft Guidance for Industry; Availability

Correction

In notice document 2024-05178, appearing on pages 17850 through 17851 in the issue of Tuesday, March 12, 2024, make the following correction:

On page 17850, in the second column, on the third line, “May 13, 2024” should read “June 10, 2024”.

[FR Doc. C1-2024-05178 Filed 3-15-24; 8:45 am]

BILLING CODE 0099-10-D